DEPARTMENT OF ENERGY

Federal Energy Regulatory Commission

Combined Notice of Filings #1

Take notice that the Commission received the following electric rate filings:

Docket Numbers: ER14-1292-001.

Applicants: Public Service Company of New Mexico.

Description: Compliance Filing of Revised PNM Cargill TSA to be effective 12/1/2015.

Filed Date: 6/12/14.

Accession Number: 20140612-5092.

Comments Due: 5 p.m. ET 7/3/14.

Docket Numbers: ER14-1865-002.

Applicants: BETM Solutions LLC.

Description: Amendment to Notice of Succession and Tariff Revision Filing to be effective 5/3/2014.

Filed Date: 6/12/14.

Accession Number: 20140612-5047.

Comments Due: 5 p.m. ET 7/3/14.

Docket Numbers: ER14-2160-000.

Applicants: Duke Energy Carolinas, LLC.

Description: Amendment to RS 342 Cargill and DEC PSA to be effective 6/10/2014.

Filed Date: 6/12/14.

Accession Number: 20140612-5033.

Comments Due: 5 p.m. ET 7/3/14.

Docket Numbers: ER14-2161-000.

Applicants: Midcontinent Independent System Operator, Inc.

Description: 2014-06-12 SMMPA Attachment O Revisions to be effective 6/13/2014.

Filed Date: 6/12/14.

Accession Number: 20140612-5111.

Comments Due: 5 p.m. ET 7/3/14.

Docket Numbers: ER14-2162-000.

Applicants: Southwest Power Pool, Inc.

Description: Update to Index of Grandfathered Agreements to be effective 8/11/2014.

Filed Date: 6/12/14.

Accession Number: 20140612-5134.

Comments Due: 5 p.m. ET 7/3/14.

Docket Numbers: ER14-2163-000.

Applicants: Green Mountain Power Corporation.

Description: Partial Cancellation of Tariff ID 200 to be effective 6/13/2014.

Filed Date: 6/12/14.

Accession Number: 20140612-5138.

Comments Due: 5 p.m. ET 7/3/14.

Docket Numbers: ER14-2164-000.

Applicants: PJM Interconnection, L.L.C.

Description: Queue Position R76; Original Service Agreement No. 3862 to be effective 5/13/2014.

Filed Date: 6/12/14.

Accession Number: 20140612-5143.

Comments Due: 5 p.m. ET 7/3/14.

Docket Numbers: ER14-2165-000.

Applicants: BE KJ LLC.

Description: Notice of cancellation to be effective 6/30/2014.

Filed Date: 6/12/14.

Accession Number: 20140612-5148.

Comments Due: 5 p.m. ET 7/3/14.

Docket Numbers: ER14-2166-000.

Applicants: Alabama Power Company.

Description: Attachment S (GPCo) Updated Depreciation Rates Filing 2014 to be effective 1/1/2014.

Filed Date: 6/12/14.

Accession Number: 20140612-5160.

Comments Due: 5 p.m. ET 7/3/14.

Take notice that the Commission received the following electric reliability filings.

Docket Numbers: RD14-11-000.

Applicants: North American Electric Reliability Corp.

Description: Petition for approval of proposed Reliability Standards VAR-001-4 (Voltage and Reactive Control) and VAR-002-3 (Generator Operation for Maintaining Network Voltage Schedules) of North American Electric Reliability Corporation.

Filed Date: 6/9/14.

Accession Number: 20140609-5087.

Comments Due: 5 p.m. ET 7/14/14.

The filings are accessible in the Commission's eLibrary system by clicking on the links or querying the docket number.

Any person desiring to intervene or protest in any of the above proceedings must file in accordance with Rules 211 and 214 of the Commission's Regulations (18 CFR 85.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2014.
Kimberly D. Bose,
Secretary.

[FR Doc. 2014-14371 Filed 6-19-14; 8:45 am]

BILLING CODE 6717-01-P